FEDERAL RESERVE SYSTEM

Change in Bank Control Notices; Formations of, Acquisitions by, and Mergers of Bank Holding Companies; Correction

This notice corrects a notice (FR Doc. 2014-11065) published on page 27611 of the issue for Wednesday, May 14, 2014.

Under the Federal Reserve Bank of Minneapolis heading, the entry for Ericka Lynn Kotab and David William Kotab, both of Wagner, South Dakota, is revised to read as follows:

A. Federal Reserve Bank of Minneapolis (Jacqueline K. Brunmeier, Assistant Vice President) 90 Hennepin Avenue, Minneapolis, Minnesota 55480-0291:

1. Ericka Lynn Kotab and David William Kotab, both of Wagner, South Dakota, as members of the Frei Family Shareholder Group; to acquire voting shares of Commercial Holding Company, and thereby indirectly acquire voting shares of Commercial State Bank of Wagner, both in Wagner, South Dakota.

Comments on this application must be received by May 29, 2014.

Board of Governors of the Federal Reserve System, May 19, 2014.
Michael J. Lewandowski,
Associate Secretary of the Board.

[FR Doc. 2014-11875 Filed 5-21-14; 8:45 am]

BILLING CODE 6210-01-P